DEPARTMENT OF COMMERCE

National Oceanic and Atmospheric Administration

RIN 0648-XA428

Marine Mammals; File No. 14301

AGENCY: National Marine Fisheries Service (NMFS), National Oceanic and Atmospheric Administration (NOAA), Commerce.

ACTION: Notice; issuance of permit amendment.

SUMMARY: Notice is hereby given that The University of Alaska Museum of the North, 907 Yukon Drive Fairbanks, AK 99775-6960 (Link Olson, Responsible Party) has been issued a minor amendment to Scientific Research Permit No. 14301-01.

ADDRESSES: The amendment and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Brendan Hurley or Jennifer Skidmore; phone: (301) 427-8401.

SUPPLEMENTARY INFORMATION: The requested amendment has been granted under the authority of the Marine Mammal Protection Act of 1972, as amended (16 U.S.C. 1361 et seq.) and the regulations governing the taking and importing of marine mammals (50 CFR part 216).

Permit No. 14301 (74 FR 65748), authorizes the permit holder to collect, receive, import, or export marine mammal parts for scientific research purposes from all species under NMFS' jurisdiction. Import/export activities may occur world-wide. No live animals are authorized to be harassed or taken, lethally or otherwise, under the permit. This minor amendment (No. 14301-02) extends the duration of the permit one year, through December 31, 2015, but does not change any other terms or conditions of the permit.

Dated: February 9, 2015.
Perry F. Gayaldo,
Deputy Director, Office of Protected Resources, National Marine Fisheries Service.

[FR Doc. 2015-03018 Filed 2-12-15; 8:45 am]

BILLING CODE 3510-22-P